DEPARTMENT OF HEALTH AND HUMAN SERVICES

Health Resources and Services Administration

Agency Information Collection Activities: Proposed Collection: Public Comment Request; Information Collection Request Title: Rural Northern Border Region Outreach Program Performance Measures Report

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than April 3, 2026.

ADDRESSES: Submit your comments to paperwork@hrsa.gov or mail the HRSA Information Collection Clearance Officer, Room 13N82, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Rural Northern Border Region Outreach Program Performance, OMB No. 0915-xxxx-[New]

Abstract: The Rural Northern Border Region Outreach Program (RNBR-OP) is authorized under 42 U.S.C. 254c(e) (Section 330A(e) of the Public Health Service Act) to promote the delivery of health care services to rural underserved populations in Northern Border Regional Commission counties in Maine, New Hampshire, New York, and Vermont. This authority permits HRSA to “award grants to eligible entities to promote rural health care services outreach by improving and expanding the delivery of health care services to include new and enhanced services in rural areas through community engagement and evidence-based or innovative, evidence-informed models.” 42 U.S.C. 254c(e).

Need and Proposed Use of the Information: The purpose of the proposed data collection is to assess RNBR-OP awardees' progress toward meeting RNBR-OP goals (as stated in the authorizing statute). Additionally, HRSA will be able to monitor and assess the impact of the RNBR-OP program, and identify improvements made by RNBR-OP awardees in specific topic areas. RNBR-OP grantees will submit annual reports to HRSA on performance measures covering the following topic areas: (1) capacity/organizational information; (2) workforce training; (3) access/population demographics; (4) health status and/or quality; and (5) sustainability.

Likely Respondents: The respondents will be recipients of the RNBR-OP funding.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
RNBR-OP Performance Measures Report | 13 | 1 | 13 | 17 | 221
Total | 13 | 1 | 13 | 17 | 221

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2026-02067 Filed 1-30-26; 8:45 am]

BILLING CODE 4165-15-P